FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011603-001.

Title: Great White Fleet and Tropical Shipping & Construction Co., Ltd. Slot Charter Agreement.

Parties: Great White Fleet Ltd., Great White Fleet (US) Ltd., Tropical Shipping & Construction Co., Ltd.

Synopsis: The proposed modification would substitute Great White Fleet (US) Ltd. for Great White Fleet Ltd., a Bermuda company, as a party to the agreement.

Agreement No.: 011800-001.

Title: Dole Ocean Cargo Express, Inc./Maersk Sealand Slot Charter Agreement.

Parties: Dole Ocean Cargo Express, Inc., A.P. Moller-Maersk Sealand.

Synopsis: The proposed modification would increase the number of slots that Dole will charter to Maersk Sealand under the agreement.

Agreement No.: 011836.

Title: WWL/K-Line Americas Space Charter Agreement.

Parties: Wallenius Wilhelmsen Lines AS, Kawasaki Kisen Kaisha, Ltd.

Synopsis: The proposed agreement would authorize the parties to share vessel space for the transportation of vehicles and other cargo in the trade between U.S. Atlantic and Gulf ports and ports on the East Coasts of Mexico and South America.

Agreement No.: 011837.

Title: HUAL/EUKOR Caribbean and Central America Space Charter Agreement.

Parties: HUAL AS, EUKOR Car Carriers, Inc.

Synopsis: The proposed agreement would authorize the parties to share vessel space for the transportation of rolling stock from U.S. Atlantic ports, including Puerto Rico, to ports in and on the Caribbean Sea. The parties request expedited review.

Dated: January 10, 2003.
By Order of the Federal Maritime Commission.
Bryant L. VanBrakle,
Secretary.

[FR Doc. 03-875 Filed 1-14-03; 8:45 am]

BILLING CODE 6730-01-P